SECURITIES AND EXCHANGE COMMISSION

[File No. 500-1]

In the Matter of Crescent Banking Co., Data Storage Consulting Services, Inc., First National Bancshares, Inc., Infosmart Group, Inc., Marco Community Bancorp, Inc., and Sun River Energy, Inc. (n/k/a New River Exploration, Inc.); Order of Suspension of Trading

June 17, 2014

It appears to the Securities and Exchange Commission that there is a lack of current and accurate information concerning the securities of Crescent Banking Co. because it has not filed any periodic reports since the period ended March 31, 2010.

It appears to the Securities and Exchange Commission that there is a lack of current and accurate information concerning the securities of Data Storage Consulting Services, Inc. because it has not filed any periodic reports since the period ended March 31, 2010.

It appears to the Securities and Exchange Commission that there is a lack of current and accurate information concerning the securities of First National Bancshares, Inc. because it has not filed any periodic reports since the period ended March 31, 2010.

It appears to the Securities and Exchange Commission that there is a lack of current and accurate information concerning the securities of Infosmart Group, Inc. because it has not filed any periodic reports since the period ended March 31, 2010.

It appears to the Securities and Exchange Commission that there is a lack of current and accurate information concerning the securities of Marco Community Bancorp, Inc. because it has not filed any periodic reports since the period ended June 30, 2010.

It appears to the Securities and Exchange Commission that there is a lack of current and accurate information concerning the securities of Sun River Energy, Inc. (n/k/a New River Exploration, Inc.) because it failed to include the required audited financial statements for the fiscal year ended April 30, 2011 in its Form 10-K for the period ended April 30, 2012, and failed to file any periodic reports since it filed a Form 10-Q for the period ended July 31, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 17, 2014, through 11:59 p.m. EDT on June 30, 2014.

By the Commission.
Jill M. Peterson,
Assistant Secretary.

[FR Doc. 2014-14439 Filed 6-17-14; 4:15 pm]

BILLING CODE 8011-01-P